ENVIRONMENTAL PROTECTION AGENCY

[FRL-6949-9]

Metalex Superfund Site; Notice of Proposed Settlement

AGENCY: Environmental Protection Agency.

ACTION: Notice of proposed agreement.

SUMMARY: The Environmental Protection Agency is proposing to enter into an agreement with Libby Corporation pursuant to 122 of the Comprehensive Environmental Response, Compensation, and Liability Act of 1980, as amended, regarding the Metalex Superfund Site located in Lexington County, Lexington, South Carolina. EPA will consider public comments on the proposed settlement for thirty (30) days. EPA may withdraw from or modify the proposed settlement should such comments disclose facts or considerations which indicate the proposed settlement is inappropriate, improper or inadequate. Copies of the proposed settlement are available from: Ms. Paula V. Batchelor, U.S. EPA, Region 4 (WMD-CPSB), Sam Nunn Atlanta Federal Center, 61 Forsyth Street, SW., Atlanta, Georgia 30303, (404) 562-8887.

Written comments may be submitted to Ms. Batchelor within thirty (30) calendar days of the date of the publication.

Dated: February 15, 2001.
Franklin E. Hill,
Chief, CERCLA Program Services Branch, Waste Management Division.

[FR Doc. 01-5564 Filed 3-6-01; 8:45 am]

BILLING CODE 6560-50-U